DEPARTMENT OF STATE

[Public Notice 6182]

Shipping Coordinating Committee; Notice of Committee Meeting

The Shipping Coordinating Committee (SHC) will conduct an open meeting at 9:30 a.m. on Tuesday, January 5, 2010, in Room 10-0718 of Jemal's Riverside Building, 1900 Half Street SW., Washington, DC 20593-0001. The primary purpose of the meeting is to prepare for the forty-first session of the International Maritime Organization (IMO) Standards of Training and Watchkeeping (STW) to be held at the IMO Headquarters, United Kingdom, from January 11 to January 15, 2010.

The primary matters to be considered include:

—Decisions of other IMO bodies;

—Validation of modal training courses;

—Unlawful practices associated with certificates of competency;

—Training for seafarer safety representatives;

—Casualty analysis;

—Comprehensive review of the STCW Convention and the STCW Code;

—Review of the principles for establishing the safe manning levels of ships;

—Measures to enhance maritime security;

—Development of an e-navigation strategy implementation plan;

—Revision of the recommendations for entering enclosed spaces aboard ships;

—Development of model procedures for executing ship board emergency procedures; and

—Work programme and agenda for STW 42.

Members of the public may attend this meeting up to the seating capacity of the room. To facilitate the building security process, those who plan to attend should contact the meeting coordinator; Ms. Zoe Goss by e-mail at zoe.a.goss@uscg.mil, by phone at (202) 372-1425, by fax at (202) 372-1926, or in writing at Commandant (CG-5212), U.S. Coast Guard Headquarters, 2100 2nd Street, SW., Room 1308, Washington, DC 20593-0001 not later than 72 hours before the meeting. Please note that due to security considerations, two valid, government issued photo identifications must be presented to gain entrance to the Headquarters building. The Headquarters building is accessible by taxi and privately owned conveyance (public transportation is not generally available). However, parking in the vicinity of the building is extremely limited.

Additional information regarding this and other IMO SHC public meetings may be found at: http://www.uscg.mil/hq/cg5/imo.

Dated: December 8, 2009.
J. Trent Warner,
Executive Secretary, Shipping Coordinating Committee, Department of State.

[FR Doc. E9-30037 Filed 12-16-09; 8:45 am]

BILLING CODE 4710-09-P